FEDERAL MARITIME COMMISSION

[Docket No. 22-03]

One Banana North America Corp., Complainant v. Hapag-Lloyd AG and Hapag-Lloyd (America) LLC, Respondents; Notice of Filing of Complaint and Assignment

Served: January 24, 2022.

Notice is given that a complaint has been filed with the Federal Maritime Commission (Commission) by One Banana North America Corp, hereinafter “Complainant,” against Hapag-Lloyd AG and Hapag-Lloyd (America) LLC, hereinafter “Respondents.” Complainant is a Florida corporation that ships fresh bananas from Central and South America to the United States, where it sells them to various wholesalers and retailers. Complainant alleges that Respondent Hapag Lloyd AG is a German company, Respondent Hapag-Lloyd (America) LLC is a Delaware company, and that Respondents are common carriers.

Complainant alleges that Respondents violated 46 U.S.C 41102(c), 46 CFR 545.4 and 545.5, and 46 U.S.C. 41104(a)(10) with regard to the movement of refrigerated containers. The full text of the complaint can be found in the Commission's Electronic Reading Room at https://www2.fmc.gov/readingroom/proceeding/22-03/.

This proceeding has been assigned to Office of Administrative Law Judges. The initial decision of the presiding office in this proceeding shall be issued by January 24, 2023, and the final decision of the Commission shall be issued by August 7, 2023.

William Cody,
Secretary.

[FR Doc. 2022-01598 Filed 1-26-22; 8:45 am]

BILLING CODE 6730-02-P